OFFICE OF SCIENCE AND TECHNOLOGY POLICY

National Nanotechnology Coordination Office, Nanoscale Science, Engineering and Technology Subcommittee, National Science and Technology Council, Committee on Technology; The National Nanotechnology Initiative (NNI) Strategic Planning Stakeholder Workshop: Public Meeting

ACTION: Notice of public meeting.

SUMMARY: The National Nanotechnology Coordination Office (NNCO), on behalf of the Nanoscale Science, Engineering, and Technology (NSET) Subcommittee of the Committee on Technology, National Science and Technology Council (NSTC), will hold a workshop on July 13-14, 2010, to provide an open forum to obtain input from stakeholders regarding the goals and objectives of an updated U.S. National Nanotechnology Initiative (NNI) Strategic Plan that is currently under development and scheduled for completion by December 2010. Representatives of the U.S. research community, industry, non-governmental organizations, and interested members of the general public are invited to offer suggestions to the U.S. Government interagency task force that is drafting the new plan, which is an update of the December 2007 NNI Strategic Plan (see http://www.nano.gov/NNI_Strategic_Plan_2007.pdf). In particular, the agencies participating in the NNI are seeking input on the specific objectives that should be included in the updated plan under each of the overarching NNI goals, and on the most likely approaches for achieving those objectives.

DATES: The public meeting will be held on Tuesday, July 13, 2010 from 8 a.m. until 5 p.m. and on Wednesday, July 14, 2010 from 8 a.m. until 4 p.m.

ADDRESSES: The public meeting will be held at the Hotel Palomar Arlington, 1121 North 19th Street, Arlington, VA 22209 (Metro stop: Rosslyn on the Orange and Blue lines). For directions, please see http://www.HotelPalomar-Arlington.com.

Registration: Due to space limitations, pre-registration for the workshop is required. People interested in attending the workshop should register online at http://www.nano.gov/html/meetings/strategicplan/register.html. You may also register by e-mail at strategy@nnco.nano.gov, or by U.S. mail. Written registrations should be mailed to the Strategic Planning Workshop, c/o NNCO, 4201 Wilson Blvd., Stafford II, Suite 405, Arlington, VA 22230. Please provide your full name, title, affiliation and e-mail or mailing address when registering. Please indicate in your registration whether you are interested in presenting 3-5 minutes of public comment during the meeting. Registration is on a first-come, first-served basis until the location space limits are reached. Otherwise registration must be received by July 7, 2010 at 4 p.m. EDT.

Comments may be submitted by e-mail to strategy@nnco.nano.gov or via U.S. mail at the above address until July 30, 2010. Information about the meeting, including the agenda, is posted at http://www.nano.gov.

The main sessions will be webcast. Please see http://www.nano.gov for more information.

Meeting Accommodations: Individuals requiring special accommodation to access this public meeting should contact Halyna Paikoushn (443-695-6943) at least ten business days prior to the meeting so that appropriate arrangements can be made.

FOR FURTHER INFORMATION CONTACT: For information regarding this Notice, please contact Diana Petreski, telephone (703) 292-8626 or Halyna Paikoush, telephone (443) 695-6943, National Nanotechnology Coordination Office. E-mail: strategy@nnco.nano.gov.

Rachael L. Leonard,
General Counsel, OSTP.

[FR Doc. 2010-13157 Filed 6-1-10; 8:45 am]

BILLING CODE P